DEPARTMENT OF THE INTERIOR

Fish and Wildlife Service

Establishment of the Vieques National Wildlife Refuge

AGENCY: Fish and Wildlife Service, Interior.

ACTION: Notice.

SUMMARY: The Secretary of the Navy transferred, without reimbursement, approximately 3,100 acres on the Island of Vieques, Puerto Rico to the Secretary of the Interior. This land was a portion of the facility known as the Naval Ammunition Support Detachment property and is now administered as a national wildlife refuge by the U.S. Fish and Wildlife Service.

DATES: This action was effective on May 1, 2001.

FOR FURTHER INFORMATION CONTACT: Joseph J. Schwagerl, Acting Refuge Manager for the Caribbean Islands Refuges Complex with the Fish and Wildlife Service in Boqueron, Puerto Rico, 787-851-7258.

SUPPLEMENTARY INFORMATION: Pursuant to section 1508 of Title XV of Public Law 106-398, the U.S. Navy transferred approximately 3,100 acres (1254.52 hectares) on the Island of Vieques, Puerto Rico to the Department of the Interior to be administered as a wildlife refuge under the National Wildlife Refuge System Administration Act of 1966, as amended (16 U.S.C. 668dd-668ee).

The Vieques National Wildlife Refuge contains several ecologically distinct habitats including beaches, coastal lagoons, mangroves wetlands, and upland forested areas. The marine environment surrounding the refuge contains coral reefs and sea grass beds. The refuge and its surrounding waters are home to at least four plants and 10 animals on the Federal endangered species list including the West Indian manatee, the brown pelican, and four species of sea turtles.

A Cooperative Management Agreement made among the U.S. Fish and Wildlife Service, the Commonwealth of Puerto Rico, and the Puerto Rico Conservation Trust provides the general management principles for the protection of the refuge lands and other lands on the Islands of Vieques. A Conceptual Management Plan will serve as an interim management plan for the refuge until we develop a Comprehensive Conservation Plan.

Dated: June 27, 2001.
Marshall P. Jones, Jr.,
Director, U.S. Fish and Wildlife Service.

[FR Doc. 01-17056 Filed 7-6-01; 8:45 am]

BILLING CODE 4310-55-P